FEDERAL COMMUNICATIONS COMMISSION

47 CFR Parts 2 and 25

[IB Docket No. 00-185, FCC 03-162]

Flexibility for Delivery of Communications by Mobile Satellite Service Providers in the 2 GHz Band, the L-Band, and the l.6/2.4 GHz Bands

AGENCY: Federal Communications Commission.

ACTION: Final rule; announcement of effective date.

SUMMARY: This document announces the effective date of the rule published on August 12, 2003. Those rules permitted certain mobile-satellite service (MSS) providers in the 2 GHz Band, the L-Band, and the 1.6/2.4 GHz Bands to integrate ancillary terrestrial components (ATCs) into their MSS networks.

DATES: Effective April 7, 2004.

FOR FURTHER INFORMATION CONTACT: Peggy Reitzel, Policy Division, International Bureau, (202) 418-1460.

SUPPLEMENTARY INFORMATION: On July 3, 2003, the Commission released an Order on Reconsideration, a summary of which was published in the Federal Register. See 68 FR 47856 (August 12, 2003). Although the rule changes in the Order on Reconsideration became effective on September 11, 2003, several rule sections contained modified information collection requirements, which required approval by the Office of Management and Budget (OMB). The information collection requirements were approved by OMB. See OMB No. 3060-0994.

List of Subjects in 47 CFR Parts 2 and 25

Radio, Satellites, Telecommunications.

Federal Communications Commission.
William F. Caton,
Deputy Secretary.

[FR Doc. 04-7869 Filed 4-6-04; 8:45 am]

BILLING CODE 6712-01-P